DEPARTMENT OF JUSTICE

Notice of Lodging of Settlement Agreement Under the Comprehensive Environmental Response Compensation and Liability Act

Under 28 CFR 50.7, notice is hereby given that on August 4, 2004, a proposed Settlement Agreement in In re BII Liquidation, Inc., (f/k/a Burlington Industries, Inc.) No. 01-11282 (RJN) (jointly administered) was lodged with the United States Bankruptcy Court for the District of Delaware.

In this action, the United States sought the recovery of responses costs associated with four sites; the Carolina Steel Drum Site, York County, South Carolina; the Industrial Pollution Control Superfund Site (“IPC” site) Hinds County Mississippi; the J Street Site, Harnett County, North Carolina, and the FCX Statesville Site, Iredell County, North Carolina (Operable Unit 1). The Settlement Agreement provides that the claims of the United States Environmental Protection Agency for response costs at those sites will be treated as general unsecured claims in the following amounts: At the IPC site—$5,000; at the J Street Site—$160,038.50 and the FCX Statesville Site, Operable Unit 1—$665,381.32. The claims of the United States at the Carolina Drum Site are withdrawn. With respect to the IPC, J Street Site, and FCX Statesville Site claims, the United States waives and releases any other environmental claims it might have at these sites except for, among others, natural resource damage claims.

The Department of Justice will receive for a period of thirty (30) days from the date of this publication comments relating to the Settlement Agreement. Comments should be addressed to the Assistant Attorney General, Environment and Natural Resources Division, P.O. Box 7611, U.S. Department of Justice, Washington, DC 20044-7611, and should refer to In Re BII Liquidation, Inc., (f/k/a Burlington Industries, Inc.), D.J. Ref. 90-11-3-0787.

The Settlement Agreement may be examined at the Office of the United States Attorney, for the Northern District of Georgia, 600 U.S. Courthouse, 75 Spring Street, SW., Atlanta 30303-3309, and at U.S. EPA Region IV, Sam Nunn Atlanta Federal Center, 61 Forsyth Street, SW., Atlanta, Georgia 30303. During the public comment period, the Settlement Agreement may also be examined on the following Department of Justice Web site, http://www.usdoj.gov/enrd/open.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.00 (25 cents per page reproduction cost) payable to the U.S. Treasury.

Benjamin Fisherow,
Deputy Section Chief, Environmental Enforcement Section, Environment and Natural Resources Division.

[FR Doc. 04-18944 Filed 8-17-04; 8:45 am]

BILLING CODE 4410-15-M